DEPARTMENT OF ENERGY

Federal Energy Regulatory Commission

Combined Notice of Filings #1

Take notice that the Commission received the following electric rate filings:

Docket Numbers: ER24-2263-000.

Applicants: Avista Corporation, Idaho Power Company, MATL LLP, NorthWestern Corporation, NV Energy, Inc., Portland General Electric Company, Puget Sound Energy, Inc., PacifiCorp.

Description: § 205(d) Rate Filing: Avista Corporation submits tariff filing per 35.13(a)(2)(iii: 2024 Northern Grid Funding Agreement to be effective 1/1/2024.

Filed Date: 6/12/24.

Accession Number: 20240612-5186.

Comment Date: 5 p.m. ET 7/3/24.

Docket Numbers: ER24-2264-000.

Applicants: NorthWestern Corporation.

Description: § 205(d) Rate Filing: RS 271—Revised O&amp;M Agreement with REC Advanced Silicon to be effective 6/13/2024.

Filed Date: 6/12/24.

Accession Number: 20240612-5208.

Comment Date: 5 p.m. ET 7/3/24.

Docket Numbers: ER24-2265-000.

Applicants: Northern States Power Company (Minnesota).

Description: Notice of cancellation of an interconnection and interchange agreement of Northern States Power Company, a Minnesota corporation.

Filed Date: 6/12/24.

Accession Number: 20240612-5257.

Comment Date: 5 p.m. ET 7/3/24.

Docket Numbers: ER24-2266-000.

Applicants: PJM Interconnection, L.L.C.

Description: § 205(d) Rate Filing: Amendment to WMPA, SA No. 5981; Queue No. AG1-386 (amend) to be effective 8/13/2024.

Filed Date: 6/13/24.

Accession Number: 20240613-5024.

Comment Date: 5 p.m. ET 7/5/24.

Docket Numbers: ER24-2267-000.

Applicants: Southwest Power Pool, Inc.

Description: § 205(d) Rate Filing: 1628R26 Western Farmers Electric Cooperative NITSA NOAs) to be effective 6/1/2024.

Filed Date: 6/13/24.

Accession Number: 20240613-5036.

Comment Date: 5 p.m. ET 7/5/24.

Docket Numbers: ER24-2268-000.

Applicants: Duke Energy Florida, LLC, Duke Energy Progress, LLC, Duke Energy Carolinas, LLC.

Description: § 205(d) Rate Filing: Duke Energy Florida, LLC submits tariff filing per 35.13(a)(2)(iii: Revisions to Joint OATT (Removal of Sch. 3A, Revisions to Attachments E and I) to be effective 9/1/2024.

Filed Date: 6/13/24.

Accession Number: 20240613-5057.

Comment Date: 5 p.m. ET 7/5/24.

Docket Numbers: ER24-2269-000.

Applicants: PJM Interconnection, L.L.C.

Description: § 205(d) Rate Filing: Original NSA, SA No. 7290; Queue No. AC1-098/AC1-099/AC2-084 to be effective 8/13/2024.

Filed Date: 6/13/24.

Accession Number: 20240613-5091.

Comment Date: 5 p.m. ET 7/5/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 13, 2024.
Debbie-Anne A. Reese,
Acting Secretary.

[FR Doc. 2024-13526 Filed 6-20-24; 8:45 am]

BILLING CODE 6717-01-P